DEPARTMENT OF ENERGY

Federal Energy Regulatory Commission

[Project No. 2524-021]

Grand River Dam Authority; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2524-021.

c. Date filed: November 27, 2013.

d. Applicant: Grand River Dam Authority.

e. Name of Project: Salina Pumped Storage Project.

f. Location: The existing project is located on the Saline Creek arm of Lake Hudson in the Grand River basin in Mayes County, Oklahoma. The project does not affect federal lands.

g. Filed Pursuant to: Federal Power Act 16 U.S.C. 791(a)-825(r).

h. Applicant Contact: Dr. Darrell Townsend, P.O. Box 70, Langley, Oklahoma 74350-0070; (918) 256-0616; dtownsend@grda.com.

i. FERC Contact: Stephen Bowler, (202) 502-6861, or stephen.bowler@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2524-021.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Salina Pumped Storage Project consists of: (1) The 762-acre W.R. Holway Reservoir (the upper reservoir), with a normal pool elevation between 850 feet and 865 feet National Geodetic Vertical Datum; (2) three rim dikes around the upper reservoir; (3) an 1,800-foot-long concrete-lined canal; (4) a 336-foot-wide, 62-foot-high forebay structure; (5) a 2,300-foot-long, 185-foot-high earthen dam; (6) six 14-foot-diameter penstocks, each between 630 and 680 feet long; (7) a powerhouse with six reversible pump-turbine units, each rated at 43.3 megawatt (MW), for a total installed capacity of 260 MW; (8) a substation; (9) an approximately 6-mile-long, 161-kilovolt transmission line; and (10) appurtenant facilities. The project utilizes Lake Hudson (the lower reservoir), which is the reservoir for the Grand River Dam Authority's Markham Ferry Project No. 2183, for pumped storage operations.

m. A copy of the application is available for review at the Commission in the Public Reference Room, or may be viewed on the Commission's Web site at http://www.ferc.gov using the “eLibrary” link. Enter the docket number, excluding the last three digits in the docket number field, to access the document. For assistance, contact FERC Online Support at FERCOnlineSupport@ferc.gov, or toll-free at 1-866-208-3676, or for TTY, (202) 502-8659. Copies are also available for inspection and reproduction at the public libraries in Vinita and Salina, Oklahoma, and at the Administrative Headquarters of the Grand River Dam Authority at 226 W. Dwain Willis Avenue, Vinita, Oklahoma.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following preliminary Hydro Licensing Schedule. Revisions to the schedule may be made as appropriate.

Milestone | Target date
Filing of recommendations, preliminary terms and conditions, and fishway prescriptions | May 2014.
Commission issues Draft EA | November 2014.
Comments on Draft EA | December 2014.
Modified Terms and Conditions | February 2015.
Commission Issues Final EA | May 2015.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification. On December 18, 2013, Grand River Dam Authority filed with the Commission a copy of its request for water quality certification. The copy included a date stamp and signature from the Oklahoma Department of Water Quality indicating receipt of the request on December 11, 2013 by the certifying agency.

Dated: March 13, 2014.
Kimberly D. Bose,
Secretary.

[FR Doc. 2014-06115 Filed 3-19-14; 8:45 am]

BILLING CODE 6717-01-P